DEPARTMENT OF THE INTERIOR

National Park Service

[NPS-WASO-NAGPRA-18012; PPWOCRADN0-PCU00RP14.R50000]

Notice of Inventory Completion: U.S. Department of the Interior, National Park Service, Isle Royale National Park, Houghton, MI

AGENCY: National Park Service, Interior.

ACTION: Notice.

SUMMARY: The U.S. Department of the Interior, National Park Service, Isle Royale National Park, has completed an inventory of human remains and associated funerary objects, in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to Isle Royale National Park. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to Isle Royale National Park at the address in this notice by May 28, 2015.

ADDRESSES: Phyllis Green, Superintendent, Isle Royale National Park, 800 East Lakeshore Drive, Houghton, MI 49931-1896, telephone (906) 482-0984, email Phyllis_Green@nps.gov.

SUPPLEMENTARY INFORMATION: Notice is here given in accordance with the Native American Graves Protection and Repatriation Act (NAGPRA), 25 U.S.C. 3003, of the completion of an inventory of human remains and associated funerary objects under the control of the U.S. Department of the Interior, National Park Service, Isle Royale National Park, Houghton, MI. The human remains and associated funerary objects were removed from Isle Royale National Park in Keweenaw County, MI.

This notice is published as part of the National Park Service's administrative responsibilities under NAGPRA, 25 U.S.C. 3003(d)(3) and 43 CFR 10.11(d). The determinations in this notice are the sole responsibility of the Superintendent, Isle Royale National Park.

Consultation

A detailed assessment of the human remains was made by Isle Royale National Park professional staff in consultation with representatives of the Keweenaw Bay Indian Community, Michigan; Lac Vieux Desert Band of Lake Superior Chippewa Indians of Michigan; Minnesota Chippewa Tribe, Minnesota—Bois Forte Band (Nett Lake); Minnesota Chippewa Tribe, Minnesota—Grand Portage Band; Minnesota Chippewa Tribe, Minnesota—Mille Lacs Band; Saginaw Chippewa Indian Tribe of Michigan; and Sault Ste. Marie Tribe of Chippewa Indians, Michigan (hereafter referred to as “The Consulted Tribes”).

The following tribes were invited to consult, but declined to do so: Bad River Band of the Lake Superior Tribe of Chippewa Indians of the Bad River Reservation, Wisconsin; Bay Mills Indian Community, Michigan; Lac Courte Oreilles Band of Lake Superior Chippewa Indians of Wisconsin; Lac du Flambeau Band of Lake Superior Chippewa Indians of the Lac du Flambeau Reservation of Wisconsin; Minnesota Chippewa Tribe, Minnesota—Fond du Lac Band; Red Cliff Band of Lake Superior Chippewa Indians of Wisconsin; and St. Croix Chippewa Indians of Wisconsin (hereafter referred to as “The Invited Tribes”).

History and Description of the Remains

In 1940 and 1960, human remains representing, at minimum, two individuals were removed from Massee Rockshelter in Keweenaw County, MI. Archeologists Dennis Glen Cooper and Fred Dustin collected remains in 1940. In 1960, additional remains were removed during a University of Michigan Museum of Anthropology archeology project. The remains are small, poorly preserved, and consist mostly of fragments of small bones. No known individuals were identified. The 11 associated funerary objects are 1 biface projectile point and 10 fragmentary bird bones.

The Massee Rockshelter site is the only known Native American burial site located on the main island at Isle Royale National Park. A calibrated radiocarbon date of AD 1270-1400 indicates a Late Woodland, Early Historic time period for the remains. There is insufficient material to make a definitive cultural affiliation determination.

Determinations Made by Isle Royale National Park

Officials of Isle Royale National Park have determined that:

• Pursuant to 25 U.S.C. 3001(9), the human remains described in this notice are Native American based on the attributes of the prehistoric archeology site from which they were removed.

• Pursuant to 25 U.S.C. 3001(9), the human remains described in this notice represent the physical remains of two individuals of Native American ancestry.

• Pursuant to 25 U.S.C. 3001(3)(A), the 11 objects described in this notice are reasonably believed to have been placed with or near individual human remains at the time of death or later as part of the death rite or ceremony. The National Park Service intends to convey the associated funerary objects to the tribes pursuant to 16 U.S.C. 18f-2.

• Pursuant to 25 U.S.C. 3001(2), a relationship of shared group identity cannot be reasonably traced between the Native American human remains and associated funerary objects and any present-day Indian tribe.

• Treaties, Acts of Congress, or Executive Orders, indicate that the land from which the Native American human remains were removed is the aboriginal land of the Bad River Band of the Lake Superior Tribe of Chippewa Indians of the Bad River Reservation, Wisconsin; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Minnesota Chippewa Tribe, Minnesota—Fond du Lac Band; Minnesota Chippewa Tribe, Minnesota—Grand Portage Band; Minnesota Chippewa Tribe, Minnesota—Mille Lacs Band; Red Cliff Band of Lake Superior Chippewa Indians of Wisconsin; and St. Croix Chippewa Indians of Wisconsin.

• Pursuant to 43 CFR 10.11(c)(1), the disposition of the human remains and associated funerary objects may be to the Bad River Band of the Lake Superior Tribe of Chippewa Indians of the Bad River Reservation, Wisconsin; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Minnesota Chippewa Tribe, Minnesota—Fond du Lac Band; Minnesota Chippewa Tribe, Minnesota—Grand Portage Band; Minnesota Chippewa Tribe, Minnesota—Mille Lacs Band; Red Cliff Band of Lake Superior Chippewa Indians of Wisconsin; and St. Croix Chippewa Indians of Wisconsin.

Additional Requestors and Disposition

Representatives of any Indian tribe or Native Hawaiian organization not identified in this notice that wish to request transfer of control of these human remains and associated funerary objects should submit a written request with information in support of the request to Phyllis Green, Superintendent, Isle Royale National Park, 800 East Lakeshore Drive, Houghton, MI 49931-1896, telephone (906) 482-0984, email Phyllis_Green@nps.gov, by May 28, 2015. After that date, if no additional requestors have come forward, transfer of control of the human remains and associated funerary objects to the Bad River Band of the Lake Superior Tribe of Chippewa Indians of the Bad River Reservation, Wisconsin; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Minnesota Chippewa Tribe, Minnesota—Fond du Lac Band, Minnesota; Minnesota Chippewa Tribe, Minnesota—Grand Portage Band; Minnesota Chippewa Tribe, Minnesota—Mille Lacs Band; Red Cliff Band of Lake Superior Chippewa Indians of Wisconsin; and St. Croix Chippewa Indians of Wisconsin may proceed.

Isle Royale National Park is responsible for notifying The Consulted Tribes and The Invited Tribes that this notice has been published.

Dated: March 18, 2015.
Mariah Soriano,
Acting Manager, National NAGPRA Program.

[FR Doc. 2015-09868 Filed 4-27-15; 8:45 am]

BILLING CODE 4312-50-P